DEPARTMENT OF TRANSPORTATION

Federal Highway Administration

Development of the Disaster Response and Evacuation User Service and Completion of the Version 5.0 Update to the National Intelligent Transportation System Architecture

AGENCY: Federal Highway Administration (FHWA), (DOT).

ACTION: Notice and request for comments.

SUMMARY: This notice announces that the Disaster Response and Evacuation (DRE) User Service will be available after August 15, 2003, at the following URL: http://www.its.dot.gov. Additionally, this notice announces that Version 5.0 of the National Intelligent Transportation System (ITS) Architecture will be available for review and comment for a 30 day period after August 15, 2003, at the following URL: http://www.iteris.com/itsarch. The focus of this version of the National ITS Architecture is to incorporate the new DRE User Service and modifications that have been made to seven of the existing user services to better address transportation safety and security relating to natural disasters, terrorist acts, and other catastrophic events.

FOR FURTHER INFORMATION CONTACT: For information on National ITS Architecture Development and Evolution: Mr. Lee Simmons, (202) 366-8048, ITS Joint Program Office (HOIT-1). For information on ITS in general: Mr. Michael Freitas, (202) 366-9292, ITS Joint Program Office (HOIT-1). For legal questions: Ms. Gloria Hardiman-Tobin, (202) 366-0780, Office of the Chief Counsel (HCC-40); 400 Seventh Street SW., Washington, DC 20590. Office hours are from 7:45 a.m. to 4:15 p.m., e.t., Monday through Friday except Federal holidays.

SUPPLEMENTARY INFORMATION:

Electronic Access

An electronic copy of this document may be downloaded by using a computer, modem, and suitable communications software from the Government Printing Office's Electronic Bulletin Board Service at (202) 512-1661. Internet users may reach the Office of the Federal Register's home page at http://www.archives.gov and the Government Printing Office's Web site at: http://www.access.gpo.gov.

An electronic copy of the Disaster Response and Evacuation (DRE) User Service can be retrieved from the ITS Web site at: http://www.its.dot.gov/arch after August 15, 2003. In addition, the entire National ITS Architecture Version 5.0 may be reviewed through a link at: http://www.iteris.com/itsarch after August 15, 2003. Through this Web site, the ITS Joint Program Office (JPO) intends to solicit comments on the new National ITS Architecture Version 5.0 for a period of 30 days.

Background

The National ITS Architecture provides a common framework for planning, defining, and integrating intelligent transportation systems. This common framework represents the starting point for more detailed regional and/or project architectures in which local characteristics are addressed appropriately. The scope of the National ITS Architecture is defined by a set of user services. Each user service represents the most common activities and operations that transportation stakeholders perform to sustain efficient and safe travel of people and goods.

The National ITS Architecture began as a program in 1993 to incorporate the 29 user services that were defined in the National ITS Program Plan. That stakeholder-based consensus effort was completed in 1996. Stakeholders identified a need for the Disaster Response and Evacuation User Service in order to address management of the surface transportation system during all types of disasters such as, natural disasters, terrorist acts, and other catastrophic events. This service is the fourth additional user service integrated into the National ITS Architecture and involved public sector and some private sector stakeholders representing emergency responders, public safety workers, and other elements of the surface transportation system.

Disaster Response and Evacuation User Service

The functional areas addressed in the new DRE User Service are those that involve ITS technologies, integration with other transportation systems that are represented in the National ITS Architecture, and those that will benefit surface transportation safety and efficiency. The DRE User Service is broken into two primary subservices with each addressing a number of functional areas. The disaster response subservice consists of eight major functions: Coordinate response plans, monitor alert levels, detect and verify emergency, assess infrastructure status, manage area transportation, critical service restoration, coordinate response/recovery, and disaster traveler information. The evacuation coordination subservice consists of four major functions: Evacuation planning support, evacuation traveler information, evacuation transportation management, and evacuation resource sharing.

National ITS Architecture Version 5.0

With respect to the updated Version 5.0 of the National ITS Architecture, existing user services which were modified to further address new aspects of transportation security included: Incident management, public transportation management, public travel security, on-board safety and security monitoring, freight mobility, hazardous materials security and incident response, and emergency notification and personal security.

One new subsystem, Security Monitoring, has been added to the twenty-one subsystems in existence in the National ITS Architecture. Four new terminators have been added and new market packages have been defined to reflect the additional services described by the Architecture. In addition, equipment packages, process specifications, architecture flows and data flows have been added to accommodate the new user service and the transportation security modifications. The National ITS Architecture Version 5.0 will include an overview of the new security-related changes as well as hyperlinks to information on securing of ITS itself—information systems security, operations and personnel security, and the management of security policy/procedures.

Other modifications made to the National ITS Architecture for Version 5.0 include support for 511 traveler information systems, improvements to the hypertext, and updated mappings to the ITS standards activities such as efforts in 5.9 GHz dedicated short-range communications.

The National ITS Architecture Version 5.0 addressing transportation security updates, including the new DRE User Service, may be reviewed through a link on the National ITS Architecture Web site, http://www.iteris.com/itsarch, after August 15, 2003. Through this Web site, the ITS JPO intends to solicit comments on the new National ITS Architecture Version 5.0 for a period of 30 days. Once we have analyzed these comments, the final version is planned to be posted on the U.S. DOT ITS Web site, http://www.its.dot.gov/arch in October 2003 with CD ROMs available for distribution in November 2003.

Authority: 23 U.S.C. 101, 106, 109, 133, 315, and 508; sec 5206(e), Pub. L. 105-178, 112 Stat. 457 (23 U.S.C. 502 note); and 49 CFR 1.48.

Issued on: June 23, 2003.
Mary E. Peters,
Federal Highway Administrator.

[FR Doc. 03-16370 Filed 6-27-03; 8:45 am]

BILLING CODE 4910-22-P